NATIONAL SCIENCE FOUNDATION

Advisory Committee for Engineering; Notice of Meeting

In accordance with the Federal Advisory Committee Act (Pub. L. 92-463, as amended), the National Science Foundation (NSF) announces the following meeting:

NAME AND COMMITTEE CODE: Advisory Committee for Engineering (#1170).

DATE AND TIME:

October 25, 2022; 11:00 a.m.-6:00 p.m. (Eastern)

October 26, 2022; 9:00 a.m.-2:00 p.m. (Eastern)

PLACE: NSF, 2415 Eisenhower Avenue, Alexandria, VA 22314/Virtual.

TYPE OF MEETING: Open.

CONTACT PERSONS: Don Millard, National Science Foundation, 2415 Eisenhower Avenue, Alexandria, VA 22314; Telephone: (703) 292-8300.

Additional meeting information, an updated agenda, and registration information will be available on the AC website at https://www.nsf.gov/eng/advisory.jsp.

PURPOSE OF MEETING: To provide advice, recommendations and counsel on major goals and policies pertaining to engineering programs and activities.

Agenda

Tuesday, October 25, 2022; 11:00 a.m.-6:00 p.m. (Eastern)

Directorate for Engineering Report

NSF Budget Update

NSF and the CHIPS and Science Act

Advanced Manufacturing

Engineering Research at Diverse Institutions

Overview of the ENG Office of Emerging Frontiers and Multidisciplinary Activities (EFMA)

Committee of Visitors Report on EFMA

Strategic Recommendations for ENG

Wednesday, October 26, 2022; 9:00 a.m.-2:00 p.m. (Eastern)

Engineering Education and Workforce Training

Preparation for Discussion with the Director's Office

Perspective from the Director's Office

Engineering Research Centers

Strategic Recommendations for ENG

Dated: September 26, 2022.
Crystal Robinson,
Committee Management Officer.

[FR Doc. 2022-21190 Filed 9-29-22; 8:45 am]

BILLING CODE 7555-01-P